FEDERAL DEPOSIT INSURANCE CORPORATION

Notice of Termination of Receiverships

The Federal Deposit Insurance Corporation (FDIC or Receiver), as Receiver for each of the following insured depository institutions, was charged with the duty of winding up the affairs of the former institutions and liquidating all related assets. The Receiver has fulfilled its obligations and made all dividend distributions required by law.

Notice of Termination of Receiverships
Fund | Receivership name | City | State | Termination date
10142 | Madisonville State Bank | Madisonville | TX | 4/1/2019
10198 | Century Security Bank | Duluth | GA | 4/1/2019
10214 | Innovative Bank | Oakland | CA | 4/1/2019
10424 | Charter National Bank & Trust | Hoffman Estates | IL | 4/1/2019
10522 | Allied Bank | Mulberry | AR | 4/1/2019

The Receiver has further irrevocably authorized and appointed FDIC-Corporate as its attorney-in-fact to execute and file any and all documents that may be required to be executed by the Receiver which FDIC-Corporate, in its sole discretion, deems necessary, including but not limited to releases, discharges, satisfactions, endorsements, assignments, and deeds. Effective on the termination dates listed above, the Receiverships have been terminated, the Receiver has been discharged, and the Receiverships have ceased to exist as legal entities.

Dated at Washington, DC, on April 2, 2019.
Federal Deposit Insurance Corporation.
Robert E. Feldman,
Executive Secretary.

[FR Doc. 2019-06712 Filed 4-4-19; 8:45 am]

BILLING CODE 6714-01-P